DEPARTMENT OF AGRICULTURE

Rural Utilities Service

Seminole Electric Cooperative, Inc.; Notice of Finding of No Significant Impact

AGENCY: Rural Utilities Service, USDA.

ACTION: Notice of finding of no significant impact.

SUMMARY: Notice is hereby given that the Rural Utilities Service (RUS), an agency delivering the U.S. Department of Agriculture's Rural Development Utilities Programs, has made a finding of no significant impact with respect to a request from Seminole Electric Cooperative for financing assistance from RUS to construct a 310 megawatt, simple-cycle combustion turbine electric generating facility at its Payne Creek Generation Station located in Hardee and Polk Counties, Florida.

FOR FURTHER INFORMATION CONTACT: Bob Quigel, Engineering and Environmental Staff, RUS, Stop 1571, 1400 Independence Avenue, SW., Washington, DC 20250-1571, telephone (202) 720-0468, e-mail bob.quigel@usda.gov.

SUPPLEMENTARY INFORMATION: Seminole Electric Cooperative's proposed electric generation project will involve the construction and operation of nominal 310 MW of simple-cycle combustion turbine electric generating units and associated support facilities at its existing 1,300-acre Payne Creek Generating Station site in Hardee and Polk Counties, Florida. The proposed electric generating facilities will consist of five Pratt & Whitney (P&W) FT8-3 Twin Pac aeroderivative combustion turbine units. Each Twin Pac unit will consist of two simple-cycle combustion turbines coupled with one common electric generator with a nominal generating capacity of 62 MW. The proposed combustion turbine units and associated substation will be constructed in an approximately 8-acre area located adjacent to the east of the existing Payne Creek Generating Station units. A small (i.e., 0.15-acre), isolated freshwater marsh wetland, which will be impacted by construction of the proposed project, is present in the southern portion of the area.

The Payne Creek Generating Station site is located approximately 9 miles northwest of the city of Wauchula, 16 miles south-southwest of the city of Bartow, and 40 miles east of the Tampa Bay area. The site is bordered on the east by County Road 663, a CSX Railroad line, and the CF Industries Hardee Complex phosphate mine.

The simple-cycle combustion turbines will be fired primarily with natural gas via gas pipeline systems which currently provide natural gas for the existing Payne Creek Generating Station units. Low-sulfur distillate fuel oil will serve as backup fuel. The proposed project will require the construction of a new, aboveground, 1.4-million-gallon fuel oil storage tank to be located adjacent to the existing 1.4-million-gallon storage tank within an expanded spill containment area.

To facilitate interconnection of the proposed project with the Florida power grid, the existing 8-mile-long 230 kV transmission line extending from the Payne Creek Generating Station site to the Vandolah Substation will be upgraded. The line upgrade will consist of replacing the existing conductors with higher current-carrying conductors. Also, both the associated transmission line terminals and switches will be upgraded. These upgrades will not require any additional right-of-way, replacement of any transmission line structures, or any expansion of the Vandolah substation.

Copies of the Finding of No Significant Impact are available from RUS at the address provided herein or from James Frauen, Seminole Electric Cooperative, PO Box 272000, Tampa, Florida 33688-2000, telephone (813) 739-1213.

Dated: September 13, 2004.
James R. Newby,
Acting Assistant Administrator, Electric Program.

[FR Doc. 04-20889 Filed 9-15-04; 8:45 am]

BILLING CODE 3410-15-P